DEPARTMENT OF TRANSPORTATION

National Highway Traffic Safety Administration

[Docket No. NHTSA 2005-21268; Notice 2]

The Goodyear Tire & Rubber Company, Grant of Petition for Decision of Inconsequential Noncompliance

The Goodyear Tire & Rubber Company (Goodyear) has determined that certain tires it manufactured in 2005 do not comply with S6.5(b) of Federal Motor Vehicle Safety Standard (FMVSS) No. 119, “New pneumatic tires for vehicles other than passenger cars.” Pursuant to 49 U.S.C. 30118(d) and 30120(h), Goodyear has petitioned for a determination that this noncompliance is inconsequential to motor vehicle safety and has filed an appropriate report pursuant to 49 CFR part 573, “Defect and Noncompliance Reports.” Notice of receipt of a petition was published, with a 30-day comment period, on May 31, 2005, in the Federal Register (70 FR 31006). NHTSA received one comment.

Affected are a total of approximately 958 Wrangler AT tires produced from March 7, 2005 to April 4, 2005. S6.5(b) of FMVSS No. 119 requires that each tire shall be marked with “[t]he tire identification number required by part 574 of this chapter.” The noncompliant tires should have been marked “DOT PJ10 MPH0 wwyy,” but were actually marked with one of the following serial codes: DOT 1085 PJ10 MPH0, DOT 1086 PJ10 MPH0, DOT 2013 PJ10 MPH0, or DOT 2014 PJ10 MPH0.

Goodyear believes that the noncompliance is inconsequential to motor vehicle safety and that no corrective action is warranted. Goodyear states that the mislabeling creates no unsafe condition. Goodyear further states that all of the markings related to tire service including load capacity and corresponding inflation pressure are correct, and that the tires meet or exceed all applicable FMVSS performance requirements. Goodyear says that when consumers register these tires in Goodyear's registration database, they can be identified in the unlikely event that they would be involved in a tire recall.

NHTSA agrees that the noncompliance is inconsequential to motor vehicle safety. The mislabeling does not create an unsafe condition, nor will it result in unsafe use of the tires. As Goodyear states, when consumers register these tires in Goodyear's registration database, they can be identified in the event of a recall. In addition, the tires meet or exceed all of the performance requirements of FMVSS No. 119, and all other informational markings as required by FMVSS No. 119 are present. Goodyear has corrected the problem.

One comment favoring denial was received from a private individual. The issue to be considered in determining whether to grant this petition is the effect of the noncompliance on motor vehicle safety. The comment does not address this issue, and therefore has no bearing on NHTSA's determination.

In consideration of the foregoing, NHTSA has decided that the petitioner has met its burden of persuasion that the noncompliance described is inconsequential to motor vehicle safety. Accordingly, Goodyear's petition is granted and the petitioner is exempted from the obligation of providing notification of, and a remedy for, the noncompliance.

Authority: 49 U.S.C. 30118, 30120; delegations of authority at CFR 1.50 and 501.8.

Issued on: July 8, 2005.
Ronald L. Medford,
Senior Associate Administrator for Vehicle Safety.

[FR Doc. 05-14035 Filed 7-15-05; 8:45 am]

BILLING CODE 4910-59-P